DEPARTMENT OF ENERGY

Federal Energy Regulatory Commission

[Docket No. IC02-717-000; FERC-717]

Commission Information Collection Activities, Proposed Collection; Comment Request; Extension

June 17, 2002.

AGENCY: Federal Energy Regulatory Commission, DOE.

ACTION: Notice.

SUMMARY: In compliance with the requirements of Section 3506(c)(2)(a) of the Paperwork Reduction Act of 1995, 44 U.S.C. 3506(c)(2)(A), the Federal Energy Regulatory Commission (Commission) is soliciting public comment on the specific aspects of the information collection described below.

DATES: Comments on the collection of information are due by August 23, 2002.

ADDRESSES: Copies of the proposed collection of information can be obtained from Michael Miller, Office of the Chief Information Officer, CI-1, 888 First Street NE., Washington, DC 20426. Comments may be filed either in paper format or electronically. Those persons filing electronically do not need to make a paper filing. For paper filings, the original and 14 copies of such comments should be submitted to the Office of the Secretary, Federal Energy Regulatory Commission, 888 First Street, NE. Washington, DC 20426 and should refer to Docket No. IC02-717-000.

Documents filed electronically via the Internet must be prepared in WordPerfect, MS Word, Portable Document Format, or ASCII format. To file the document, access the Commission's website at www.ferc.gov and click on “Make an E-filing,” and then follow the instructions for each screen. First time users will have to establish a user name and password. The Commission will send an automatic acknowledgment to the sender's E-mail address upon receipt of comments. User assistance for electronic filings is available at 202-208-0258 or by e-mail to efiling@ferc.fed.us. Comments should not be submitted to the e-mail address.

All comments may be viewed, printed or downloaded remotely via the Internet through FERC's homepage using the RIMS link. User assistance for RIMS is available at 202-208-2222, or by e-mail to rimsmaster@ferc.fed.us.

FOR FURTHER INFORMATION CONTACT: Michael Miller may be reached by telephone at (202)208-1415, by fax at (202)208-2425, and by e-mail at michael.miller@ferc.gov.

SUPPLEMENTARY INFORMATION: The information collected under the requirements of FERC-717 “Open Access Same Time Information System” (OMB No. 1902-0173) is used by the Commission to carry out the general authority in Sections 309 and 311 of the Federal Power Act 1978 (PURPA)(16 U.S.C. 825h). On April 24, 1996, the Commission issued two separate but interrelated final rules. The first rule, Order No. 888 required that all public utilities that own, control or operate facilities used for transmitting electric energy in interstate commerce to have on file open access non-discriminatory transmission tariffs that contain minimum terms and conditions of non-discriminatory service. The second rule Order No. 889, required utilities to establish electronic systems to share information about available transmission capacity. Under this rule, each public utility (or its agent) that owns, controls, or operates transmission facilities had to create or participate in an Open Access Same-Time Information System (OASIS) that provides open access transmission customers (current and potential) with electronic information about transmission capacity, prices, and other information necessary to obtain open access nondiscriminatory transmission services. The rule also established standards of conduct to ensure that a public utility's employees engaged in a transmission operations function independently of those employees engaged in wholesale purchases and sales of electric energy in interstate commerce. In addition, specific requirements with respect to various standards and protocols were identified to ensure that the OASIS system presents information in a consistent and uniform manner. In subsequent orders OASIS has been modified as it became necessary to adopt uniform business practices and communication protocols. In Docket No. RM01-10-000, the Commission proposed new standards of conduct to apply uniformly to both natural gas pipelines and transmitting public utilities, a matter still pending before the Commission.

The compliance with these requirements is mandatory. The reporting requirements are found at 18 CFR Part 37.

Action: The Commission is requesting a three-year extension of the current expiration date, with no changes to the existing collection of data with exception to the standards of conduct which are the subject of a separate proceeding as noted above.

Burden Statement: Public reporting burden for this collection is estimated as:

Number of respondents annually (1) | Number of responses per respondent (2) | Average burden hours per response (3) | Total annual burden hours (1)×(2)×(3)
140 | 1 | 1,418 | 198,520

In the Commission's initial submission to OMB it included an estimate based on information obtained from technical journals of the annualized Capital/Startup costs necessary for setting out a world wide web site on the Internet. Additional costs included developing the procedures for calculating ATC and operating an OASIS, and creating the necessary links between control center computers and OASIS computers. To annualize, the Commission assumed that the system would last conservatively for three years. On an annual basis, the Commission estimated startup costs to be $190,000 per system. For operating and maintenance costs (“ongoing”), the Commission estimated the costs to be $110,000 per system. In addition, the Commission assumed that it would take six staff members working full time (five to cover reporting requirements and one to maintain the record keeping requirements).

However, six years have passed since that initial estimate and three years since the last submission to OMB. OASIS has been in full operation for several years as the Commission noted in its last submission, therefore, it will only consider costs for the continued operation of OASIS. (Operations and Maintenance costs include the use of staff to maintain the web site plus human resources necessary for developing and handling data for OASIS. The Commission had assumed in its last submission that only 4.5 personnel (a reduction from the six as noted above) were necessary for staffing, but with improvements in information technology, consolidations within the industry and sharing of staff time between the OASIS site and control room operations, it is anticipated that staffing levels has been further reduced to an average of four personnel. The total annualized cost of the OASIS requirement is 140 respondents × operations and maintenance costs + staffing costs (using a personnel cost of $70,000). The latter figure represents an average of mean annual earnings for professions in Information Technology and Engineering as reported in Federal government occupational statistics for the year 2000. (140 respondents × $390,000 = $ 54,600,000 for total costs).

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology e.g. permitting electronic submission of responses.

Linwood A. Watson, Jr.,
Deputy Secretary.

[FR Doc. 02-15701 Filed 6-20-02; 8:45 am]

BILLING CODE 6717-01-P